DEPARTMENT OF HEALTH AND HUMAN SERVICES

Centers for Medicare & Medicaid Services

[Document Identifier: CMS-10500 and CMS-10340]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by January 30, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: document Identifier/OMB Control Number:__, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10500 National Implementation of the Outpatient and Ambulatory Surgery Consumer Assessment of Healthcare Providers and Systems (OAS CAHPS) Survey

CMS-10340 Collection of Encounter Data from MA Organizations, Section 1876 Cost HMOs/CMPs, MMPs, and PACE Organizations

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension without change of the previously approved collection; Title of Information Collection: National Implementation of the Outpatient and Ambulatory Surgery Consumer Assessment of Healthcare Providers and Systems (OAS CAHPS) Survey; Use: As documented in the CY 2022 OPPS/ASC Final Rule (86 FR 63863 through 63866), OAS CAHPS Survey data will be linked to reimbursement beginning with CY 2024 for HOPDs and CY 2025 for ASCs. ASCs will continue with voluntary implementation of the OAS CAHPS Survey throughout CY 2024.

HOPDs and ASCs contract with a CMS-approved, independent third-party survey vendor to implement the survey on their behalf and to submit the OAS CAHPS data to CMS. CMS publicly reports comparative results from OAS CAHPS after each facility has conducted data collection for 4 quarters. Data from OAS CAHPS enable consumers to make more informed decisions when choosing an outpatient surgery facility, aid facilities in their quality improvement efforts, and help CMS monitor the performance of outpatient surgery facilities. Considering the increasing Medicare expenditures for outpatient surgical services from HOPDs and ASCs, the implementation of OAS CAHPS provides CMS with much-needed statistically valid data from the patient perspective to inform quality improvement and comparative consumer information about specific facilities. The information collected in the OAS CAHPS survey will be used for the following purposes:

• To provide a source of information from which patient experience of care measures can be publicly reported to beneficiaries to help them make informed decisions for outpatient surgery facility selection;

• To aid facilities with their internal quality improvement efforts and external benchmarking with other facilities; and

• To provide CMS with information for monitoring and public reporting purposes.

Form Number: CMS-10500 (OMB control number: 0938-1240); Frequency: Once; Affected Public: Business or other for-profits and Not-for-profits institutions; Number of Respondents: 2,534,643; Total Annual Responses: 2,534,643; Total Annual Hours: 614,976. (For policy questions regarding this collection contact Memuna Ifedirah at 410-786-6849).

2. Type of Information Collection Request: Revision with change of the previously approved collection; Title of Information Collection: Collection of Encounter Data from MA Organizations, Section 1876 Cost HMOs/CMPs, MMPs, and PACE Organizations; Use: Section 1853(a)(3)(B) of the Act directs CMS to require MA organizations and eligible organizations with risk-sharing contracts under 1876 to “submit data regarding inpatient hospital services ... and data regarding other services and other information as the Secretary deems necessary” in order to implement a methodology for “risk adjusting” payments made to MA organizations and other entities. Risk adjustments to enrollee monthly payments are made in order to take into account “variations in per capita costs based on [the] health status” of the Medicare beneficiaries enrolled in an MA plan.

CMS uses encounter data to develop individual risk scores for risk adjusted payment to MA organizations, PACE organizations, and MMPs. Starting with Payment Year (PY) 2016, CMS began to blend risk scores calculated with Risk Adjustment Processing Data and Medicare Fee- For-Service (FFS) data with risk scores calculated with encounter data and FFS data, for risk scores calculated under both the CMS-HCC and the RxHCC models. In PY 2022, we will move to calculating risk scores under both the CMS-HCC and the RxHCC models using 100 percent of the risk score calculated using encounter data and FFS data.

All organizations required to submit encounter data use an electronic connection between the organization and CMS to submit encounter data and to receive information in return. CMS collects the data from MA organizations, 1876 Cost Plans, MMPs and PACE organizations in the X12N 837 5010 format for professional, DME, and institutional, and dental services or items provided to MA enrollees. Form Number: CMS-10340 (OMB control number: 0938-1152); Frequency: Daily; Affected Public: Private Sector, Business or other for-profits and Not-for-profits institutions; Number of Respondents: 284; Total Annual Responses: 1,467,645,179; Total Annual Hours: 48,936,279. (For policy questions regarding this collection contact Raymond Mierwald at 410 446-5449).

Dated: November 28, 2023.
William N. Parham, III,
Director, Paperwork Reduction Staff, Office of Strategic Operations and Regulatory Affairs.

[FR Doc. 2023-26449 Filed 11-30-23; 8:45 am]

BILLING CODE 4120-01-P